DEPARTMENT OF TRANSPORTATION

Federal Aviation Administration

14 CFR Part 39

[Docket No. FAA-2016-8182; Directorate Identifier 2016-NM-069-AD; Amendment 39-18906; AD 2017-11-07]

RIN 2120-AA64

Airworthiness Directives; Airbus Airplanes

AGENCY: Federal Aviation Administration (FAA), Department of Transportation (DOT).

ACTION: Final rule.

SUMMARY: We are adopting a new airworthiness directive (AD) for all Airbus Model A318-111 and -112 airplanes; Model A319-111, -112, -113, -114, and -115 airplanes; Model A320-211, -212, and -214 airplanes; and Model A321-111, -112, -211, -212, and -213 airplanes. This AD was prompted by reports of cracks in certain pivot fittings of a CFM56 engine's thrust reverser (T/R). This AD requires repetitive inspections for cracking and corrosion of certain pivot fittings of a CFM56 engine's T/R, and corrective actions if necessary. We are issuing this AD to address the unsafe condition on these products.

DATES: This AD is effective July 11, 2017.

The Director of the Federal Register approved the incorporation by reference of certain publications listed in this AD as of July 11, 2017.

ADDRESSES: For Airbus service information identified in this final rule, contact Airbus, Airworthiness Office—EIAS, 1 Rond Point Maurice Bellonte, 31707 Blagnac Cedex, France; telephone +33 5 61 93 36 96; fax +33 5 61 93 44 51; email account.airworth-eas@airbus.com; Internet http://www.airbus.com.

For Goodrich Aerostructures service information identified in this final rule, contact Goodrich Aerostructures, 850 Lagoon Drive, Chula Vista, CA 91910-2098; telephone 619-691-2719; email jan.lewis@goodrich.com; Internet https://techpubs.goodrich.com.

You may view this referenced service information at the FAA, Transport Airplane Directorate, 1601 Lind Avenue SW., Renton, WA. For information on the availability of this material at the FAA, call 425-227-1221. It is also available on the Internet at http://www.regulations.gov by searching for and locating Docket No. FAA-2016-8182.

Examining the AD Docket

You may examine the AD docket on the Internet at http://www.regulations.gov by searching for and locating Docket No. FAA-2016-8182; or in person at the Docket Management Facility between 9 a.m. and 5 p.m., Monday through Friday, except Federal holidays. The AD docket contains this AD, the regulatory evaluation, any comments received, and other information. The street address for the Docket Office (telephone 800-647-5527) is Docket Management Facility, U.S. Department of Transportation, Docket Operations, M-30, West Building Ground Floor, Room W12-140, 1200 New Jersey Avenue SE., Washington, DC 20590.

FOR FURTHER INFORMATION CONTACT: Sanjay Ralhan, Aerospace Engineer, International Branch, ANM-116, Transport Airplane Directorate, FAA, 1601 Lind Avenue SW., Renton, WA 98057-3356; telephone 425-227-1405; fax 425-227-1149.

SUPPLEMENTARY INFORMATION:

Discussion

We issued a notice of proposed rulemaking (NPRM) to amend 14 CFR part 39 by adding an AD that would apply to all Airbus Model A318-111 and -112 airplanes; Model A319-111, -112, -113, -114, and -115 airplanes; Model A320-211, -212, and -214 airplanes; and Model A321-111, -112, -211, -212, and -213 airplanes. The NPRM published in the Federal Register on August 3, 2016 (81 FR 51142). The NPRM was prompted by reports of cracks on the 3 o'clock and 9 o'clock pivot fittings of a CFM56 engine's T/R. The NPRM proposed to require repetitive inspections for cracking and corrosion of the 3 o'clock and 9 o'clock pivot fittings of a CFM56 engine's T/R, and corrective actions if necessary. We are issuing this AD to detect and correct such cracking and corrosion, which could lead to T/R malfunction and, in a case of rejected takeoff at V1 on a wet runway, a consequent runway excursion, possibly resulting in damage to the airplane and injury to occupants.

The European Aviation Safety Agency (EASA), which is the Technical Agent for the Member States of the European Union, has issued EASA Airworthiness Directive 2016-0076, dated April 18, 2016 (referred to after this as the Mandatory Continuing Airworthiness Information, or “the MCAI”), to correct an unsafe condition for all Airbus Model A318-111 and -112 airplanes; Model A319-111, -112, -113, -114, and -115 airplanes; Model A320-211, -212, and -214 airplanes; and Model A321-111, -112, -211, -212, and -213 airplanes. The MCAI states:

Several operators reported finding cracks, during an unscheduled inspection, on the 3 o'clock and 9 o'clock pivot fittings of a CFM56 engine's thrust reverser (T/R). Investigation results revealed that these cracks were caused by a combination of stress and fatigue effects. Further analysis determined that only aeroplanes fitted with CFM56-5A or CFM56-5B series engines could be affected by this issue.

This condition, if not detected and corrected, could lead to T/R malfunction and, in a case of rejected take off at V1 on a wet runway, a consequent runway excursion, possibly resulting in damage to the aeroplane and injury to occupants.

For the reasons described above, EASA issued AD 2016-0068, requiring repetitive inspections [for cracks and corrosion] of the T/R pivot fittings at the 3 o'clock and 9 o'clock positions and, depending on findings, accomplishment of applicable corrective action(s).

Since that [EASA] AD was issued, it was determined that the list of part numbers (P/N) of affected T/R pivot fitting, as identified in that [EASA] AD, was incomplete.

For the reason stated above, this [EASA] AD retains the requirements of EASA AD 2016-0068, which is superseded, but expands the list of affected fitting P/Ns.

You may examine the MCAI in the AD docket on the Internet at http://www.regulations.gov by searching for and locating Docket No. FAA-2016-8182.

Comments

We gave the public the opportunity to participate in developing this AD. The following presents the comments received on the NPRM and the FAA's response to each comment.

Request To Revise Repetitive Inspection Interval

American Airlines (AA) requested that we revise paragraph (g) of the proposed AD to change the proposed repetitive inspection interval for inspecting the T/R pivot fittings from 60 months to 10 years to match certain airworthiness limitation items (ALIs). AA stated that aligning the inspection interval with existing ALIs allows accomplishment of the inspection during a shop overhaul along with other ALIs. AA stated that this will significantly reduce the burden on operators. AA explained that changing this compliance time will not affect the likelihood of fatigue cracking, since fatigue effects are cycle-based and the same cycle-threshold is maintained.

We do not agree with AA's request. EASA, as the State of Design Authority for Airbus products, has determined that the compliance time of 60 months represents the maximum interval of time allowable for the affected airplanes to continue to safely operate. This determination is based on the severity of the failure and the likelihood of the failure's occurrence, and takes into account the overall risk to the fleet. The FAA and EASA worked with Airbus to ensure that all appropriate actions are taken at the appropriate times to mitigate risk to the fleet. However, under the provisions of paragraph (l)(1) of this AD, we will consider requests for approval of a revised inspection interval if sufficient data are submitted to substantiate that the inspection interval would provide an acceptable level of safety. We have not changed this AD in this regard.

Request To Use Later Revisions of Service Information

AA requested that we allow the use of later revisions of the service information for accomplishment of the actions specified in paragraph (g) of the proposed AD. AA asserted that future revisions of the referenced service information will have additional analysis and insight into the design and failure modes of the structure. Additionally, AA pointed out that the FAA will have an opportunity to object to any revisions the manufacturer proposes.

We do not agree with AA's request. We may not refer to any document in an AD that does not yet exist.

In general terms, we are required by the Office of the Federal Register (OFR) regulations to either publish the service document contents as part of the actual AD language; or submit the service document to the OFR for approval as “referenced” material, in which case we may only refer to such material in the text of an AD. The AD may refer to the service document only if the OFR approved it for “incorporation by reference.” See 1 CFR part 51.

To allow operators to use later revisions of the referenced document (issued after publication of the AD), either we must revise the AD to reference specific later revisions, or operators must request approval to use later revisions as an alternative method of compliance with this AD under the provisions of paragraph (l)(1) of this AD. We have not changed this AD in this regard.

Request To Revise Service Information Date

AA requested that we revise the “Related Service Information under 1 CFR part 51” section of the preamble and paragraphs (g) and (j) of the proposed AD to correct the revision date specified for Airbus Service Bulletin A320-70-1003, Revision 01, dated December 28, 2015. AA pointed out that in the NPRM the release date is stated as December 18, 2015, instead of December 28, 2015.

We agree to fix the typographical error. We have revised this final rule accordingly.

Request To Clarify Which Service Information Is Required for Certain Actions

AA requested that we revise paragraphs (g) and (h) of the proposed AD to clarify that doing the actions in paragraph (g) of the proposed AD in the shop/off-wing requires only accomplishment of Goodrich Aerostructures Service Bulletin RA32078-137, Rev. 3, dated March 14, 2016. AA asserted that the actions specified in Airbus Service Bulletin A320-70-1003, Revision 01, dated December 28, 2015, which provides open-up instructions for on-wing actions, are not necessary to comply with the proposed requirements.

We do not agree with AA's request to revise paragraphs (g) and (h) of this AD to clarify the required actions. However, we do agree to clarify the use of the phrase “as applicable” in paragraph (g) of this AD. The intent of using the phrase “as applicable” in paragraph (g) of this AD is not to authorize an operator to accomplish either Airbus Service Bulletin A320-70-1003, Revision 01, dated December 28, 2015; or Goodrich Aerostructures Service Bulletin RA32078-137, Rev. 3, dated March 14, 2016. Operators must accomplish the actions in accordance with the applicable requirements in the Airbus service bulletin and the Goodrich Aerostructures service bulletin.

Goodrich Aerostructures Service Bulletin RA32078-137, Rev. 3, dated March 14, 2016, contains more detailed procedures for accomplishing certain required actions that are specified in Airbus Service Bulletin A320-70-1003, Revision 01, dated December 28, 2015. Therefore, operators must use both service bulletins to accomplish the AD requirements.

We also note that Airbus Service Bulletin A320-70-1003, Revision 01, dated December 28, 2015, contains Required for Compliance (RC) actions and specifies only paragraphs 3.C. and 3.D. are RC procedures. The “open-up instructions” in paragraph 3.B. of the Airbus service bulletin are not RC procedures. Those procedures and tests that are not identified as RC may be deviated from using accepted methods in accordance with the operator's maintenance or inspection program without obtaining approval of an alternative method of compliance (AMOC), provided the procedures and tests identified as RC can be done and the airplane can be put back in an airworthy condition. We have not changed this AD in this regard.

AA also requested that we revise paragraphs (k)(2)(i), (k)(2)(ii), and (k)(2)(iii) of the proposed AD to permit the use of any of the specified service information by adding the phrase “as applicable” following references to the service information. AA asserted that this revision would prevent any confusion regarding off-wing maintenance for which Airbus Service Bulletin A320-70-1003, Revision 01, dated December 28, 2015, will not be needed since the T/R is not installed on an airplane. AA stated that this revision would align the wording in paragraph (k) of the proposed AD with the wording in the first sentence of paragraph (g) of the proposed AD.

We do not agree to add “as applicable” to paragraphs (k)(2)(i), (k)(2)(ii), and (k)(2)(iii) of this AD. If an operator wants to install a spare part, then they still need to perform Airbus Service Bulletin A320-70-1003, Revision 01, dated December 28, 2015; and Goodrich Aerostructures Service Bulletin RA32078-137, Rev. 3, dated March 14, 2016. For example, if a spare met the 60-month threshold to qualify as serviceable then operators are still required to perform the operational test of the thrust reversers after installation of the fittings. We have not changed this AD in this regard.

Request To Clarify Compliance Time in Paragraph (h)(2) of the Proposed AD

AA requested that we revise paragraph (h)(2) of the proposed AD to clarify that the compliance time of 7,200 flight cycles accumulated applies to the T/R and not to the airplane.

We agree that clarification is necessary. The accumulated flight cycles are on the T/R, not the airplane. We have revised paragraph (h)(2) of this AD accordingly.

Request To Revise or Remove Parts Limitation Compliance Time

AA requested that we revise paragraph (j) of the proposed AD to remove the limitation of fixing the unsafe condition on T/Rs prior to installation, as of the effective date of this AD. Rather, AA requested that we revise the compliance times to those in paragraph (h) of the proposed AD if it is determined that, prior to installation, the T/R was removed as part of an unrelated on-wing maintenance action. AA stated that paragraph (j) of the proposed AD puts a burden on operators to fix the unsafe condition on the T/R if the discrepant T/R is removed for any maintenance reason. Additionally, AA asserted that the proposed actions require special inspection equipment, inventory, consumable materials, etc., which are not readily available at all stations, in addition to the necessary labor and extensive downtime. Alternatively, AA stated that removal of paragraph (j) of the proposed AD would be acceptable.

We do not agree with AA's request. Paragraph (j) of this AD does not require immediate corrective action for a T/R that is removed for any maintenance action, unless the T/R exceeds the thresholds specified in paragraph (j) of this AD. EASA has determined that the compliance time specified in paragraph (j) of this AD should be based on the severity of the failure, the likelihood of the failure's occurrence, and the overall safety risk to the fleet. The FAA and EASA worked with Airbus to ensure that all appropriate action(s) are taken at appropriate times to mitigate risk to the fleet. This determination took into consideration parts and special tool availability, and planning for accomplishment of any necessary corrective action. Airbus did not provide us any information related to a short supply of parts or tools required for accomplishment of this AD. In addition, it is the operator's responsibility to plan appropriately for actions to be taken to assure parts and equipment are available for AD compliance. Therefore, the FAA's expectation is that, as of the effective date of this AD, operators will not install a known unsafe part as specified in paragraph (j) of this AD. However, if the part is already installed and in-service, then operators may utilize the full compliance time as allowed by this AD. Operators have the option of proposing an alternative compliance time, with supportive data, in accordance with paragraph (l)(1) of this AD. We have not changed this AD in this regard.

Request To Permit Flights With Deactivated T/Rs

AA requested that we revise the proposed AD to allow a minimum equipment list (MEL) provision to deactivate affected T/Rs for the allowable duration of that MEL item before accomplishing the corrective actions specified in the proposed AD. AA explained that this action would provide an equivalent level of safety since, during application of the MEL, the T/Rs are deactivated and there is never a possibility of T/R structural failure due to cracking.

We agree with AA's request. We have added paragraph (i)(3) to this AD to state that it is permissible to dispatch an airplane equipped with a T/R pivot fitting(s) having a part number specified in paragraph (g)(1) or (g)(2) of this AD, provided the limitations in Master Minimum Equipment List Item 78-30-01 (which provides for deactivation of the affected T/R) have been followed.

Request To Provide a Provision for Special Flight Permits

AA requested that the proposed AD be revised to include an allowance for special flight permits to allow the operator to operate the airplane to a location where the requirements of the proposed AD can be accomplished.

We acknowledge the potential need for a one-time ferry flight. Although not specifically stated in the proposed AD, there is no restriction prohibiting or limiting special flight permits, as described in Section 21.197 and Section 21.199 of the Code of Federal Regulations (14 CFR 21.197 and 21.199). Therefore, we have not changed this AD regarding this issue.

Conclusion

We reviewed the relevant data, considered the comments received, and determined that air safety and the public interest require adopting this AD with the changes described previously and minor editorial changes. We have determined that these minor changes:

• Are consistent with the intent that was proposed in the NPRM for correcting the unsafe condition; and

• Do not add any additional burden upon the public than was already proposed in the NPRM.

We also determined that these changes will not increase the economic burden on any operator or increase the scope of this AD.

Related Service Information Under 1 CFR Part 51

Airbus has issued Service Bulletin A320-70-1003, Revision 01, dated December 28, 2015. This service information describes procedures for doing inspections for cracking and corrosion of the 3 o'clock and 9 o'clock pivot fittings of a CFM56 engine's T/R.

Goodrich Aerostructures has issued Service Bulletin RA32078-137, Rev. 3, dated March 14, 2016. This service information describes procedures for doing inspections for cracking and corrosion of the 3 o'clock and 9 o'clock pivot fittings of a CFM56 engine's T/R, and repair of corrosion.

This service information is reasonably available because the interested parties have access to it through their normal course of business or by the means identified in the ADDRESSES section.

Costs of Compliance

We estimate that this AD affects 400 airplanes of U.S. registry.

We estimate the following costs to comply with this AD:

Estimated Costs
Action | Labor cost | Parts cost | Cost per product | Cost on U.S. operators
Inspection | 4 work-hours × $85 per hour = $340 per inspection cycle | $0 | $340 per inspection cycle | $136,000 per inspection cycle.

We have received no definitive data that will enable us to provide cost estimates for the on-condition actions specified in this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-11-07 Airbus: Amendment 39-18906; Docket No. FAA-2016-8182; Directorate Identifier 2016-NM-069-AD.

(a) Effective Date

This AD is effective July 11, 2017.

(b) Affected ADs

None.

(c) Applicability

This AD applies to the Airbus airplanes, certificated in any category, identified in paragraphs (c)(1) through (c)(4) of this AD, all manufacturer serial numbers.

(1) Airbus Model A318-111 and -112 airplanes.

(2) Airbus Model A319-111, -112, -113, -114, and -115 airplanes.

(3) Airbus Model A320-211, -212, and -214 airplanes.

(4) Airbus Model A321-111, -112, -211, -212, and -213 airplanes.

(d) Subject

Air Transport Association (ATA) of America Code 78, Engine exhaust.

(e) Reason

This AD was prompted by reports of cracks on the 3 o'clock and 9 o'clock pivot fittings of a CFM56 engine's thrust reverser (T/R). We are issuing this AD to detect and correct such cracking and corrosion, which could lead to T/R malfunction and, in a case of rejected takeoff at V1 on a wet runway, a consequent runway excursion, possibly resulting in damage to the airplane and injury to occupants.

(f) Compliance

Comply with this AD within the compliance times specified, unless already done.

(g) Inspections and Corrective Actions

At the applicable compliance time specified in paragraph (h) of this AD: Do a high frequency eddy current (HFEC) inspection for cracking and corrosion of each T/R pivot fitting specified in paragraphs (g)(1) and (g)(2) of this AD, and do all applicable corrective actions, in accordance with the Accomplishment Instructions of Airbus Service Bulletin A320-70-1003, Revision 01, dated December 28, 2015; and Goodrich Aerostructures Service Bulletin RA32078-137, Rev. 3, dated March 14, 2016; as applicable; except as required by paragraph (i) of this AD. Do all applicable corrective actions before further flight. Repeat the inspection of the T/R pivot fittings thereafter at intervals not to exceed 60 months or 12,000 flight cycles, whichever occurs first.

(1) The 3 o'clock position T/R pivot fittings having part numbers (P/N) that are provided in paragraphs (g)(1)(i) through (g)(1)(iv) of this AD.

(i) P/N 321-200-850-6.

(ii) P/N 321-200-851-6.

(iii) P/N 321-200-852-6.

(iv) P/N 321-200-853-6.

(2) The 9 o'clock position T/R pivot fittings having P/Ns that are provided in paragraphs (g)(2)(i) through (g)(2)(iv) of this AD.

(i) P/N 321-200-800-6.

(ii) P/N 321-200-801-6.

(iii) P/N 321-200-802-6.

(iv) P/N 321-200-803-6.

(h) Compliance Times

At the later of the times specified in paragraphs (h)(1) and (h)(2) of this AD, do the initial inspection specified in paragraph (g) of this AD. If maintenance records cannot conclusively determine the T/R flight cycles accumulated since first installation, or the time since new, do the initial inspection required by paragraph (g) of this AD at the compliance time specified in paragraph (h)(2) of this AD.

(1) Before exceeding 10 years or 24,000 total flight cycles accumulated by the T/R, whichever occurs first since first installation on an airplane.

(2) Within 36 months or 7,200 flight cycles accumulated by the T/R, whichever occurs first after the effective date of this AD.

(i) Exceptions to Service Information Specifications

(1) If any crack is found during any inspection required by this AD: Before further flight, repair using a method approved by the Manager, International Branch, ANM-116, Transport Airplane Directorate, FAA; or the European Aviation Safety Agency (EASA); or Airbus's EASA Design Organization Approval (DOA).

(2) If any corrosion is found during any inspection required by this AD and Goodrich Aerostructures Service Bulletin RA32078-137, Rev. 3, dated March 14, 2016, specifies obtaining a damage disposition from Goodrich Aerostructures: Before further flight, repair using a method approved by the Manager, International Branch, ANM-116, Transport Airplane Directorate, FAA; or the EASA; or Airbus's EASA DOA.

(3) Dispatch of an airplane equipped with a T/R pivot fitting(s) having a part number identified in paragraph (g)(1) or (g)(2) of this AD, as specified in Master Minimum Equipment List (MMEL) 78-30-01 (deactivation of the affected T/Rs), is permitted provided the limitations specified in MMEL 78-30-01 have been followed.

(j) Parts Installation Limitation

As of the effective date of this AD, no person may install on any airplane a T/R pivot fitting having a part number specified in paragraph (g)(1) or (g)(2) of this AD, unless it is determined, prior to installation, that the T/R pivot fitting has accumulated less than 10 years and fewer than 24,000 total flight cycles since its first installation on an airplane, or less than 60 months and fewer than 12,000 flight cycles after having passed an inspection, in accordance with the Accomplishment Instructions of Airbus Service Bulletin A320-70-1003, Revision 01, dated December 28, 2015; and Goodrich Aerostructures Service Bulletin RA32078-137, Rev. 3, dated March 14, 2016.

(k) Credit for Previous Actions

(1) This paragraph provides credit for actions required by paragraph (g) of this AD, if those actions were performed before the effective date of this AD using Airbus Service Bulletin A320-70-1003, dated May 7, 2014.

(2) This paragraph provides credit for actions specified in paragraph (j) of this AD, if those actions were performed before the effective date of this AD using the service information specified in paragraph (k)(2)(i), (k)(2)(ii), or (k)(2)(iii) of this AD.

(i) Airbus Service Bulletin A320-70-1003, dated May 7, 2014; and Goodrich Aerostructures Service Bulletin RA32078-137, dated April 29, 2014.

(ii) Airbus Service Bulletin A320-70-1003, dated May 7, 2014; and Goodrich Aerostructures Service Bulletin RA32078-137, Rev. 1, dated January 26, 2015.

(iii) Airbus Service Bulletin A320-70-1003, dated May 7, 2014; and Goodrich Aerostructures Service Bulletin RA32078-137, Rev. 2, dated December 2, 2015.

(l) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone 425-227-1405; fax 425-227-1149. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Branch, ANM-116, Transport Airplane Directorate, FAA; or EASA; or Airbus's EASA DOA. If approved by the DOA, the approval must include the DOA-authorized signature.

(3) Required for Compliance (RC): Except as required by paragraph (i) of this AD: If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(m) Related Information

(1) Refer to Mandatory Continuing Airworthiness Information (MCAI) EASA Airworthiness Directive 2016-0076, dated April 18, 2016, for related information. This MCAI may be found in the AD docket on the Internet at http://www.regulations.gov by searching for and locating Docket No. FAA-2016-8182.

(2) Service information identified in this AD that is not incorporated by reference is available at the addresses specified in paragraphs (n)(3), (n)(4), and (n)(5) of this AD.

(n) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A320-70-1003, Revision 01, dated December 28, 2015.

(ii) Goodrich Aerostructures Service Bulletin RA32078-137, Rev. 3, dated March 14, 2016.

(3) For Airbus service information identified in this AD, contact Airbus service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com.

(4) For Goodrich Aerostructures service information identified in this AD, contact Goodrich Aerostructures, 850 Lagoon Drive, Chula Vista, CA 91910-2098; telephone 619-691-2719; email jan.lewis@goodrich.com; Internet https://techpubs.goodrich.com.

(5) You may view this service information at the FAA, Transport Airplane Directorate, 1601 Lind Avenue SW., Renton, WA. For information on the availability of this material at the FAA, call 425-227-1221.

(6) You may view this service information that is incorporated by reference at the National Archives and Records Administration (NARA). For information on the availability of this material at NARA, call 202-741-6030, or go to: http://www.archives.gov/federal-register/cfr/ibr-locations.html.

Issued in Renton, Washington, on May 17, 2017.
Michael Kaszycki,
Acting Manager, Transport Airplane Directorate, Aircraft Certification Service.

[FR Doc. 2017-11129 Filed 6-5-17; 8:45 am]

BILLING CODE 4910-13-P